DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans).

SUMMARY: The FHWA, on behalf of Caltrans, is issuing this notice to announce actions taken by Caltrans, that are final. The actions relate to a proposed project to replace the existing I Street bridge with a new bridge over the Sacramento River in the County of Sacramento, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before January 31, 2020. If the Federal law that authorizes judicial review of a claim provides a time period of less than 150 days for filing such claim, then that shorter time period still applies.

FOR FURTHER INFORMATION CONTACT: For Caltrans: Laura Loeffler, Branch Chief, Caltrans Office of Environmental Management, M-1 California Department of Transportation-District 3, 703 B Street, Marysville, CA 95901. Office Hours: 8:00 a.m.-5:00 p.m., Pacific Standard Time, telephone (530) 741-4592 or email laura.loeffler@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following highway project in the State of California: The City of Sacramento, in cooperation with the City of West Sacramento and Caltrans, proposes to construct a new bridge over the Sacramento River to replace the vehicle crossing that is currently accommodated by the existing I Street Bridge in order to remove a series of functionally obsolete or structurally deficient bridges (i.e. approach structures). The project limits starting within Sacramento consist of Railyards Boulevard from 200 feet east of Bercut Drive on the east, continuing west over the Sacramento River into West Sacramento along C Street, crossing 2nd Street and terminating approximately 100 feet west of the 5th Street intersection. The project limits also extend along Bercut Drive approximately 500 feet north of Railyards Boulevard, along Jibboom Street 550 feet north of Railyards Boulevard and 300 feet south of Railyards Boulevard, along 3rd Street 50 feet north and south of C Street, along 4th Street 50 feet north and south of C Street, along 5th Street 50 feet north and south of C Street. The total length of the project is approximately 0.42 miles along C Street and Railyards Boulevard. The actions by the Federal agencies, and the laws under which such actions were taken, are described in the Final Environmental Assessment (FEA)/Finding of No Significant Impact (FONSI), approved on June 10, 2019 and in other documents in the Caltrans' project records. The FEA, FONSI and other project records are available by contacting Caltrans at the addresses provided above.

This notice applies to all Federal agency decisions as of the issuance date of this notice and all laws under which such actions were taken, including but not limited to:

1. Council on Environmental Quality Regulations (40 CFR 1500 et seq., 23 CFR 771);

2. National Environmental Policy Act of 1969 (NEPA), as amended, 42 U.S.C. 4321 et seq.;

3. Federal-Aid Highway Act, (23 U.S.C. 109, as amended by FAST Act Section 1404(a), Public Law 114-94, and 23 U.S.C. 128);

4. MAP-21, the Moving Ahead for Progress in the 21st Century Act (Public Law 112-141);

5. Clean Air Act, as amended (42 U.S.C. 7401 et seq. (Transportation Conformity, 40 CFR part 93);

6. Clean Water Act of 1977 (33 U.S.C. 1251 et seq.);

7. Federal Water Pollution Control Act of 1972 (see Clean Water Act of 1977 & 1987);

8. Federal Land Policy and Management Act of 1976, Public Law 94-579;

9. Noise Control Act of 1972;

10. Safe Drinking Water Act, as amended (42 U.S.C. 300f et seq.);

11. Endangered Species Act of 1973 (16 U.S.C. 1531-1544 and Section 1536);

12. Executive Order 11990, Protection of Wetlands;

13. Executive Order 13112, Invasive Species;

14. Executive Order 13186, Migratory Birds;

15. Fish and Wildlife Coordination Act of 1934, as amended;

16. Migratory Bird Treaty Act;

17. Water Bank Act Wetlands Mitigation Banks, ISTEA 1991, Sections 1006-1007;

18. Wildflowers, Surface Transportation and Uniform Relocation Act of 1987 Section 130;

19. Coastal Zone Management Act of 1972;

20. Coastal Zone Management Act Reauthorization Amendments of 1990;

21. Executive Order 11988, Floodplain Management;

22. Department of Transportation (DOT) Executive Order 5650.2—Floodplain Management and Protection (April 23, 1979);

23. Rivers and Harbors Appropriation Act of 1899, Sections 9 and 10

24. Title VI of the Civil Rights Act of 1964, as amended;

25. Executive Order 12898, Federal Actions to Address Environmental Justice and Low-Income Populations.

(Catalog of Federal Domestic Assistance Program Number 20.205, Highway Planning and Construction. The regulations implementing Executive Order 12372 regarding intergovernmental consultation on Federal programs and activities apply to this program.)

Authority: 23 U.S.C. 139(l)(1).

Issued on: August 26, 2019.
Tashia J. Clemons,
Director, Planning and Environment, Federal Highway Administration, Sacramento, California.

[FR Doc. 2019-18991 Filed 8-30-19; 8:45 am]

BILLING CODE 4910-RY-P